DEPARTMENT OF COMMERCE

National Telecommunications and Information Administration

Implementation of the National Spectrum Strategy

AGENCY: National Telecommunications and Information Administration, U.S. Department of Commerce.

ACTION: Notice of opportunity for public input.

SUMMARY: The White House released a Presidential Memorandum (PM), Modernizing United States Spectrum Policy and Establishing a National Spectrum Strategy, and the National Spectrum Strategy (Strategy), on November 13, 2023. The PM tasks the Secretary of Commerce, through the National Telecommunications and Information Administration (NTIA), with publishing an Implementation Plan for the Strategy within 120 days after its release. NTIA welcomes public input on the implementation of the Strategy and is providing the opportunity to submit written comments and/or request meetings with NTIA staff regarding the implementation plan.

DATES: Parties should submit written comments no later than January 2, 2024. Parties requesting meetings should do so as soon as practicable.

ADDRESSES: All written inputs and any requests for meetings should be sent to NSSimplementationplan@ntia.gov. Responders should include a page number on each page of their submissions. Please do not include in your input information of a confidential nature, such as sensitive personal or business information. All comments received are part of the public record and generally will be posted to the NTIA website without change. All personally identifiable information (e.g., name, address) voluntarily submitted may be publicly accessible.

FOR FURTHER INFORMATION CONTACT: Please direct questions regarding this Notice to John Alden, Telecommunications Specialist, Office of Spectrum Management, NTIA, at (202) 482-8046 or jalden@ntia.gov. Please direct media inquiries to NTIA's Office of Public Affairs, (202) 482-7002; or press@ntia.gov.

SUPPLEMENTARY INFORMATION: NTIA serves as the President's principal advisor on telecommunications policies and manages the use of the radio-frequency spectrum by federal agencies. See 47 U.S.C. 902(b)(2). NTIA is interested in public views on implementing the Strategy, with a focus on the next 1-3 years, as such inputs allow NTIA and other federal agencies to benefit from expertise and viewpoints outside the federal government. These views will be considered in developing the implementation plan, which is intended to help accelerate U.S. leadership in wireless communications and other spectrum-based technologies and to unlock innovations that benefit the American people.

America is increasingly dependent on secure and reliable access to radio frequency spectrum. Sufficient access to spectrum is vital to national security, critical infrastructure, transportation, emergency response, public safety, scientific discovery, economic growth, competitive next-generation communications, and diversity, equity, and inclusion. Increased spectrum access will also advance U.S. innovation, connectivity, and competition, create high-paying and highly skilled jobs, and produce improvements to the overall quality of life. Access to more spectrum, in short, will help the United States continue to lead the world in advanced technology and enhance our national and economic security.

Spectrum access, however, must be managed responsibly and efficiently. NTIA jointly manages the nation's spectrum resources with the Federal Communications Commission. NTIA is welcoming public input from interested stakeholders to help inform the development of an implementation plan for the Strategy, which is needed for the U.S. to bolster investment in spectrum-related innovative technologies and plan effectively for its current and future spectrum needs.

Sean Conway,
Deputy Chief Counsel, National Telecommunications and Information Administration.

[FR Doc. 2023-26810 Filed 12-6-23; 8:45 am]

BILLING CODE P